DEPARTMENT OF THE INTERIOR

Bureau of Land Management

[OR-022-1060-JJ; HAG 4-0207]

Oregon: Meeting Notice—Use of Helicopters or Motor Vehicles in the Management of Wild Horses

AGENCY: Bureau of Land Management (BLM), Burns District, Interior.

ACTION: Annual public meeting to discuss the use of helicopters or motor vehicles in the management of wild horses in Oregon.

SUMMARY: In accordance with the Wild Free-Roaming Horses and Burros Act of 1971, as amended (Public Law 92-195) and 43 CFR 4740.1(b), this notice sets forth the annual public meeting date to discuss the use of helicopters or motorized vehicles in the management of wild horses in Oregon from October 1, 2004, to September 30, 2005.

DATES: Public Meeting Date: July 29, 2004—2 p.m. to 3 p.m.

ADDRESSES: The meeting will take place at the BLM Burns District Office, 28910 Hwy 20 West, Hines, Oregon.

FOR FURTHER INFORMATION CONTACT: Connie Dellera, BLM, Burns District Office, 28910 Hwy 20 West, Hines, Oregon 97738, telephone (541) 573-4456.

SUPPLEMENTARY INFORMATION: The meeting is open to the public. Public comments will be accepted concerning the use of helicopters or motorized vehicles in the management of wild horses. The proposed gathering schedule and approximate dates of gathering for the period October 1, 2004, to September 30, 2005, will be presented at the meeting. Approximately 800 to 1,000 wild horses are proposed for gather and adoption in Oregon, dependent on available funds.

Persons interested in making an oral statement at this meeting regarding the use of helicopters or motorized vehicles in the management of wild horses are asked to notify the District Manager, BLM, Burns District Office, 28910 Hwy 20 West, Hines, Oregon 97738 by July 23, 2004. Summary minutes of the meeting will be available for public inspection and duplication within 30 days following the meeting.

The Burns District is also accepting written comments regarding the use of helicopters or motorized vehicles in the management of wild horses. Written statements must be received by July 28, 2004, and should be sent to the address listed above.

Comments, including names, street addresses, and other contact information of respondents, will be available for public review. Individual respondents may request confidentiality. If you wish to request that BLM consider withholding your name, street address, and other contact information (such as Internet address, FAX or phone number) from public review or from disclosure under the Freedom of Information Act, you must state this prominently at the beginning of your comment. BLM will honor your request for confidentiality on a case-by-case basis to the extent allowed by law. BLM will make available for public inspection in their entirety all submissions from organizations or businesses, and from individuals identifying themselves as representatives or officials of organizations or businesses.

Dated: June 24, 2004.
Dana R. Shuford,
Burns District Manager.

[FR Doc. 04-15030 Filed 7-2-04; 8:45 am]

BILLING CODE 4310-33-P